DEPARTMENT OF ENERGY

Federal Energy Regulatory Commission

[Project Nos. 6058-005 and 6059-006 New York]

Hydro Development Group, Inc.; Notice of Availability of Multi-Project Environmental Assessment

June 28, 2002.

In accordance with the National Environmental Policy Act of 1969 and the Federal Energy Regulatory Commission's (Commission) regulations, 18 CFR part 380 (Order No. 486, 52 FR 47897), the Office of Energy Projects has reviewed the applications for licenses for the Hailesboro #4 Hydroelectric Project (P-6058-005), and Fowler #7 Project (P-6059-006), located on the Oswegatchie River in St. Lawrence County, New York, and has prepared a multi-project Environmental Assessment (EA) for the projects. There are no Federal lands or Indian reservations occupied by projects' works or located within the projects' boundaries.

The EA contains the staff's analysis of the potential environmental impacts of the project and concludes that licensing the project, with appropriate environmental protective measures, would not constitute a major federal action that would significantly affect the quality of the human environment.

A copy of the EA is on file with the Commission and is available for public inspection. The EA may also be viewed on the web at http://www.ferc.gov using the “RIMS” link—select “Docket #” and follow the instructions (call 202-208-2222 for assistance).

Any comments should be filed within 30 days from the date of this notice and should be addressed to Magalie R. Salas, Secretary, Federal Energy Regulatory Commission, 888 First Street, NE, Washington, DC 20426. Please affix Project No. 6058-005 and 6059-006 to all comments. Comments may be filed electronically via the Internet in lieu of paper. See 18 CFR 385.2001(a)(1)(iii) and the instructions on the Commission's web site under the “e-Filing” link.

For further information, contact Monte TerHaar at (202) 219-2768.

Linwood A. Watson, Jr.,
Deputy Secretary.

[FR Doc. 02-16840 Filed 7-3-02; 8:45 am]

BILLING CODE 6717-01-P